DEPARTMENT OF ENERGY

Environmental Management Site-Specific Advisory Board Chairs Meeting

AGENCY: Department of Energy.

ACTION: Notice of open meeting.

SUMMARY: This notice announces a meeting of the Environmental Management Site-Specific Advisory Board (EM SSAB) Chairs Meeting. The Federal Advisory Committee Act (Pub. L. 92-463, 86 Stat. 770) requires that public notice of these meetings be announced in the Federal Register.

DATES: April 12-13, 2002.

ADDRESSES: The Westin in Cincinnati. 21 East Fifth Street, Cincinnati, OH 45202, Phone: 513-621-7700.

FOR FURTHER INFORMATION CONTACT: Patti Kidd, The Perspectives Group, 6186 Old Franconia Road, Alexandria, VA, 22310; Phone: (703) 837-9269; e-mail: pkidd@theperspectivesgroup.com.

SUPPLEMENTARY INFORMATION: Purpose of the Board: The purpose of the Board is to make recommendations to DOE and its regulators in the areas of environmental restoration, waste management, and related activities.

Tentative Agenda

Friday, April 12, 2002

8-8:30 a.m., Registration

8:30-8:45 a.m., Welcome and Logistics, Jim Bierer, Fernald Chair.

8:45—9:30 a.m., Round Robin (5 minutes per site).

—Top Three Issues per Site

—Potential Afternoon Breakout Sessions

9:30—12 p.m., Top to Bottom Review and 2003 Budget

—Overview and Latest Developments

—Administration of $800 Million Fund

DOE Plans for Public Participation and SSABs

Chairs Discussion

12-1 p.m., Lunch

1-2 p.m., Discussion with Jessie Roberson

2-3 p.m., Status and Implications of Long Term Stewardship

—Strategic Plan (Dave Geiser)

3-3:30 p.m., Chairs Discussion on Long Term Stewardship Issues

3:30-4 p.m., Public Comment

4 p.m., Adjourn

Saturday, April 13, 2002

8-8:30 a.m., Registration

8:30-9 a.m., Discussion and Signing of Ground Water Workshop Statements

9-11 a.m., Chairs Discussion

—Response to Top to Bottom Review and the Future of the SSABs

11-11:30 a.m., Chairs Discussion

—Future Workshops and Chairs Meetings

11:30-12 p.m., Public Comment

12-12:30 p.m., Wrap Up

12:30 p.m., Adjourn

Public Participation: The meeting is open to the public. Written statements may be filed with the Committee either before or after the meeting. Individuals who wish to make oral statements pertaining to agenda items should contact Patti Kidd at the address or telephone number listed above. Requests must be received five days prior to the meeting and reasonable provision will be made to include the presentation in the agenda. The Deputy Designated Federal Officer is empowered to conduct the meeting in a fashion that will facilitate the orderly conduct of business. Each individual wishing to make a public comment will be provided a maximum of five minutes to present their comments at the end of the meeting. This notice is being published less than 15 days prior to the meeting date due to programmatic issues that had to be resolved.

Minutes: Minutes of this meeting will be available for public review and copying at the Freedom of Information Public Reading Room, 1E-190, Forrestal Building, 1000 Independence Avenue, SW, Washington, DC 20585 between 9 a.m. and 4 p.m., Monday—Friday except Federal holidays. Minutes will also be available by writing or calling Patti Kidd at the address or telephone number listed above.

Issued at Washington, DC on March 25, 2002.
Rachel M. Samuel,
Deputy Advisory Committee Management Officer.

[FR Doc. 02-7438 Filed 3-27-02; 8:45 am]

BILLING CODE 6450-01-P